DEPARTMENT OF TRANSPORTATION

Federal Aviation Administration

14 CFR Part 71

[Docket No. FAA-2025-2616; Airspace Docket No. 25-ANM-135]

RIN 2120-AA66

Establishment of Class E Airspace; Providence Seaside Hospital Heliport, Seaside, Oregon

AGENCY: Federal Aviation Administration (FAA), DOT.

ACTION: Final rule.

SUMMARY: This action establishes Class E airspace extending upward from 700 feet above the surface at Providence Seaside Hospital Heliport, Seaside, OR. This action supports instrument flight rules (IFR) operations at the heliport.

DATES: Effective date 0901 UTC, May 14, 2026. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA docket number. Electronic retrieval help and guidelines are available on the website. It is available 24 hours each day, 365 days each year. An electronic copy of this document may also be downloaded from www.federalregister.gov.

FAA Order JO 7400.11K, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Bryantjay T. Toves, Federal Aviation Administration, Western Service Center, Operations Support Group, 2200 S 216th Street, Des Moines, WA 98198; telephone (206) 231-3465.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it establishes Class E airspace at Providence Seaside Hospital Heliport, Seaside, OR.

History

The FAA published NPRM and an NPRM (90 FR 43580; September 10, 2025) and a supplement NPRM (SNPRM) (90 FR 57401; December 11, 2025) for Docket No. FAA-2025-2616 in the Federal Register and, proposing to establish Class E airspace at Providence Seaside Hospital Heliport, Seaside, OR. The SNPRM modified the proposed airspace based on corrected containment criteria. Interested parties were invited to participate in this rulemaking effort by submitting written comments on the proposal to the FAA. Two comments to the NPRM were received.

One comment was received in support of the proposal.

The second comment requested the FAA to withdraw the Administrative Procedure Act findings, requesting an additional 30-day delay of the effective date, and requested additional technical information regarding the instrument flight procedures, safety, scheduling parameters, environmental policies, and Regulatory Flexibility Act findings.

The second comment was not germane, as the commentor had an incorrect understanding of the stage of the rulemaking at the time of commenting. Specifically, the comment criticized elements it believed were lacking from the rulemaking analysis as though the action were a final rule and not a proposed rule. Although premature at the NPRM stage, the FAA has now fulfilled its legal obligations for this final rule as demonstrated by the discussion in this preamble. Additionally, the comment criticized the FAA for allegedly bypassing notice and comment and shortening or eliminating its delayed effective date. However, the FAA did not bypass notice and comment and, in fact, provided two comment periods associated with the NPRM and SNPRM. Further, the FAA is not shortening or eliminating the rule's delayed effective date. Accordingly, because this comment was misinformed and not applicable to the stage of rulemaking, the FAA will not address the substance of the comment.

Incorporation by Reference

Class E airspace areas are published in paragraph 6005 of FAA Order JO 7400.11, Airspace Designations and Reporting Points, which is incorporated by reference in 14 CFR 71.1 on an annual basis. This document amends the current version of that order, FAA Order JO 7400.11K, dated August 4, 2025, and effective September 15, 2025. These amendments will be published in the next update to FAA Order JO 7400.11. FAA Order JO 7400.11K, which lists Class A, B, C, D, and E airspace areas, air traffic service routes, and reporting points, is publicly available as listed in the ADDRESSES section of this document.

The Rule

This action amends 14 CFR part 71 by establishing Class E airspace extending upward from 700 feet above the surface at Providence Seaside Hospital Heliport, Seaside, OR.

Class E airspace extending upward from 700 feet is established within an approximately 3.5 by 10-mile area to contain two special instrument flight procedures that were recently developed for the heliport. The northern boundary extends 8.3 miles to accommodate arriving IFR operations below 1,500 feet above the surface on the COPTER RNAV (GPS) Runway 17. Additionally, the southern boundary extends to 2.3 miles west to contain departing IFR operations until reaching 1,200 feet above the surface while on the CEKOG ONE (RNAV) DEPARTURE.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1G, “FAA National Environmental Policy Act Implementing Procedures,” paragraph B-2.5. This airspace action is not expected to cause any potentially significant environmental impacts, and no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11K, Airspace Designations and Reporting Points, dated August 4, 2025, and effective September 15, 2025, is amended as follows:

Paragraph 6005 Class E Airspace Areas Extending Upward From 700 Feet or More Above the Surface of the Earth.

* * * * *

ANM OR E5 Seaside, OR [New]

Providence Seaside Hospital Heliport, OR

(Lat. 45°59′21″ N, long. 123°54′47″ W)

That airspace extending upward from 700 feet above the surface within an area 2.3 miles west and 1.4 miles east of the heliport's 360° bearing extending to 8 miles north of the heliport and within an area 2.3 miles west and 1.4 miles east of the heliport's 180° bearing extending to 2.3 miles south.

* * * * *

Issued in Des Moines, Washington, on February 18, 2026.
B.G. Chew,
Group Manager, Operations Support Group, Western Service Center.

[FR Doc. 2026-03455 Filed 2-20-26; 8:45 am]

BILLING CODE 4910-13-P